DEPARTMENT OF HOUSING AND URBAN DEVELOPMENT

[Docket No. FR-5275-N-01]

Native American Housing Assistance and Self-Determination Reauthorization Act of 2008: Initiation of Negotiated Rulemaking

AGENCY: Office of Assistant Secretary for Public and Indian Housing, HUD.

ACTION: Notice.

SUMMARY: This notice announces that HUD is initiating negotiated rulemaking for the purpose of developing regulatory changes to the programs authorized under the Native American Housing Assistance and Self-Determination Act of 1996 (NAHASDA). Changes to these programs were made by the Native American Housing Assistance and Self-Determination Reauthorization Act of 2008, which also directs that HUD undertake negotiated rulemaking to implement the statutory revisions. This notice provides background information on the NAHASDA programs and describes the next steps in the negotiated rulemaking process.

FOR FURTHER INFORMATION CONTACT: Rodger J. Boyd, Deputy Assistant Secretary for Native American Programs, Office of Public and Indian Housing, Department of Housing and Urban Development, 451 7th Street, SW., Room 4126, Washington, DC 20410-5000, telephone at 202-401-7914 (this is not a toll-free number). Persons with hearing or speech impediments may access this number through TTY by calling the toll-free Federal Information Relay Service at 800-877-8339 (this is a toll-free number).

SUPPLEMENTARY INFORMATION:

I. Background

The Native American Housing Assistance and Self-Determination Act of 1996 (25 U.S.C. 4101 et seq.) (NAHASDA) changed the way that housing assistance is provided to Native Americans. NAHASDA eliminated several separate assistance programs and replaced them with a single block grant program, known as the Indian Housing Block Grant (IHBG) Program. In addition, title VI of NAHASDA authorizes federal guarantees for financing of certain tribal activities (Title VI Loan Guarantee Program). The regulations governing the IHBG and Title VI Loan Guarantee Programs are located in part 1000 of HUD's regulations in title 24 of the Code of Federal Regulations. In accordance with section 106 of NAHASDA, HUD developed the regulations with active tribal participation and using the procedures of the Negotiated Rulemaking Act of 1990 (5 U.S.C. 561-570).

Under the IHBG Program, HUD makes assistance available to eligible Indian tribes for affordable housing activities. The amount of assistance made available to each Indian tribe is determined using a formula that was developed as part of the NAHASDA negotiated rulemaking process. Based on the amount of funding appropriated annually for the IHBG Program, HUD calculates the annual grant for each Indian tribe and provides this information to the Indian tribes. An Indian Housing Plan for the Indian tribe is then submitted to HUD. If the Indian Housing Plan is found to be in compliance with statutory and regulatory requirements, the grant is made. Under the Title VI Loan Guarantee Program, HUD guarantees notes and other obligations issued by Indian tribes or their tribally designated housing entities, for the purposes of financing the eligible activities specified in NAHASDA.

The Native American Housing Assistance and Self-Determination Reauthorization Act of 2008 (Pub. L. 110-411, approved October 14, 2008) (2008 Reauthorization Act) reauthorizes NAHASDA through 2013 and makes several amendments to the statutory requirements governing the IHBG and Title VI Loan Guarantee Programs. The 2008 Reauthorization Act amends section 106 of NAHASDA to provide that HUD shall “initiate a negotiated rulemaking in accordance with this section by not later than 90 days after enactment of the” 2008 Reauthorization Act.

Through this notice, HUD announces the initiation of the negotiated rulemaking required by the 2008 Reauthorization Act. This notice also provides an overview of the next steps in the negotiated rulemaking process.

II. Negotiated Rulemaking

The basic concept of negotiated rulemaking is to have the agency that is developing a regulation bring together representatives of affected interests for face-to-face negotiations. The give-and-take of the negotiation process is expected to foster constructive, creative and acceptable solutions to difficult problems. The establishment of the negotiated rulemaking committee will offer Indian tribal governments the opportunity to have input into the changes to the IHBG Program regulations.

Section 564 of the Negotiated Rulemaking Act of 1990 requires that an agency, prior to the establishment of a negotiated rulemaking committee, publish a notice in the Federal Register announcing its intent to establish the committee, provide a list of the proposed committee membership, provide certain other information regarding the formation of the committee, and solicit nominations for selection to the committee. HUD will be publishing the notice required by section 564 in the Federal Register. HUD's goal is to establish a committee whose membership reflects a balanced representation of Indian tribes.

When the committee is established, all meetings of the negotiated rulemaking committee will be announced in the Federal Register and be open to the public.

Dated: December 31, 2008.
Milan Ozdinec,
Deputy Assistant Secretary for Housing Choice Program, Office of Public and Indian Housing.

[FR Doc. E9-269 Filed 1-9-09; 8:45 am]

BILLING CODE 4210-67-P